DEPARTMENT OF TRANSPORTATION

Federal Aviation Administration

[Docket No.: 2010-1052]

Airport Investment Partnership Program

AGENCY: Federal Aviation Administration (FAA), DOT.

ACTION: Notice of availability of the record of decision for the participation of Airglades Airport, Hendry County, Clewiston, Florida in the Airport Investment Partnership Program.

SUMMARY: The Federal Aviation Administration (FAA) has approved the final application by Hendry County, Florida, for Airglades Airport to participate in the Airport Investment Partnership Program. Three exemptions were issued from certain provisions of Federal law. Congress established an Airport Privatization Pilot Program and authorizes the Secretary of Transportation, and through delegation, the FAA Administrator, to grant exemptions from certain Federal statutory and regulatory requirements. The Airport Privatization Pilot Program is now called the Airport Investment Partnership Program in accordance with the FAA Reauthorization Act of 2018. The Application Procedures require the FAA to approve the final application to permit exemptions after review of all documents necessary to comply with laws and regulations within the FAA's jurisdiction.

DATES: The Record of Decision was signed on September 30, 2019. Hendry County will sell Airglades Airport to Airglades LLC in accordance with the purchase and sale agreement.

ADDRESSES: The Record of Decision is available for public review under Docket Number 2010-2052, on the internet at http://www.regulations.gov, on the FAA's website www.faa.gov or in person at the Docket Operations office between 9:00 a.m. and 5:00 p.m. EST, Monday through Friday, except Federal holidays. The Docket Operations Office (800-647-5527) is located at the U.S. Department of Transportation, 1200 New Jersey Avenue SE, West Building Ground Floor, Room W12-140, Washington, DC 20590-0001.

FOR FURTHER INFORMATION CONTACT: Kevin C. Willis, Director, Airport Compliance and Management Analysis, ACO-1, Federal Aviation Administration, 800 Independence Avenue SW, Washington, DC 20591, telephone (202) 267-3085.

SUPPLEMENTARY INFORMATION:

Introduction and Background

Title 49 of the U.S. Code 47134 establishes the Airport Investment Partnership Program and authorizes the Secretary of Transportation, and through delegation, the FAA Administrator, to exempt a sponsor of a public use airport that has received Federal assistance, from certain Federal requirements in connection with the privatization of the airport by sale or lease to a private party. Specifically, per § 47134(b)(1) the Administrator may exempt the sponsor from all or part of the requirements to use airport revenues for airport-related purposes, (in the case of a non-primary airport, after the airport has consulted with at least 65 percent of the owners of aircraft based at that airport). If the exemption under § 47134(b)(1) is granted, the Administrator shall exempt the sponsor from the obligation to pay back a portion of Federal grants upon the sale or lease of an airport, or to return airport property deeded by the Federal Government upon transfer of the airport. If the exemption under § 47134(b)(1) is granted, the Administrator shall exempt the private purchaser or lessee from the requirement to use all airport revenues for airport-related purposes, to the extent necessary to permit the purchaser or lessee to earn compensation from the operations of the airport.

On September 16, 1997, the Federal Aviation Administration issued a notice of procedures to be used in applications for exemptions under Airport Privatization Pilot Program (62 Federal Register (FR) 48693). On October 18, 2010, the FAA issued a letter accepting for review the Airglades Airport preliminary application (84 FR 4291, Docket Number 2010-1052). On August 8, 2019, Hendry County filed the final application for the privatization of Airglades Airport. The final application provides for the sale of Airglades Airport to Airglades LLC to operate the airport as a general aviation facility and to develop a Perishable Cargo Complex. The privatization plan includes constructing a 10,000-foot runway for a Perishable Cargo Complex.

On August 19, 2019, the Federal Aviation Administration published in the Federal Register a Notice of Receipt of Final Application of Airglades Airport (2IS), Hendry County, Clewiston, Florida: Commencement of 30-day public view and comment period (84 FR 42977). The Notice made known the availability of the final application for Airglades Airport for public view and comment. Comments were requested by September 18, 2019.

The FAA received 284 comments in response to the Notice. The FAA response to the comments is incorporated in the Record of Decision.

On September 30, 2019, the FAA signed the Record of Decision approving the participation of Airglades Airport in the Airport Investment Partnership Program.

Issued in Washington, DC, on October 3, 2019.
Lorraine M. Herson-Jones,
Manager, Office of Airport Compliance and Management Analysis.

[FR Doc. 2019-21948 Filed 10-7-19; 8:45 am]

BILLING CODE 4910-13-P